SMALL BUSINESS ADMINISTRATION

[Declaration of Economic Injury Disaster #9P27]

Commonwealth of Massachusetts

Dukes County constitutes an economic injury disaster loan area as a result of a fire that destroyed approximately 9 businesses in a Historic Inn in Tisbury, Massachusetts on December 15, 2001. Eligible small businesses and small agricultural cooperatives without credit available elsewhere may file applications for economic injury assistance as a result of this disaster until the close of business on January 9, 2003 at the address listed below or other locally announced locations:

U.S. Small Business Administration

Disaster Area 1 Office

360 Rainbow Blvd, South 3rd Floor

Niagara Falls, NY 14303

The interest rate for eligible small businesses and small agricultural cooperatives is 4 percent. The number assigned for economic injury for this disaster is 9P2700 for Massachusetts.

(Catalog of Federal Domestic Assistance Program No. 59002)
Dated: April 9, 2002.
Hector V. Barreto,
Administrator.

[FR Doc. 02-9077 Filed 4-12-02; 8:45 am]

BILLING CODE 8025-01-P